DEPARTMENT OF ENERGY

[Docket No. PP-229]

Notice of Availability of Draft Environmental Impact Statement and Public Hearings for the Proposed Tucson Electric Power Company (TEP) Sahuarita-Nogales Transmission Line

AGENCY: Department of Energy (DOE).

ACTION: Notice of availability and public hearings.

SUMMARY: The Department of Energy (DOE) announces the availability of the “Tucson Electric Power Company (TEP) Sahuarita-Nogales Transmission Line Draft Environmental Impact Statement” (DOE/EIS-0336) for public review and comment. DOE also announces four public hearings on the Draft EIS. The Draft EIS was prepared pursuant to the National Environmental Policy Act of 1969 (NEPA), as amended, 42 U.S.C. 4321 et seq., the Council on Environmental Quality NEPA regulations, 40 CFR parts 1500-1508, and the DOE NEPA regulations, 10 CFR part 1021. The Draft EIS evaluates the environmental impacts of the proposed action of granting a Presidential permit for the proposed project and reasonable alternatives, including the “No Action” alternative of denying the permit. The U.S. Forest Service (USFS), the Bureau of Land Management (BLM), and the U.S. Section of the International Boundary and Water Commission (USIBWC) are cooperating agencies in the preparation of this Draft EIS.

DATES: DOE invites interested Members of Congress, state and local governments, other Federal agencies, American Indian tribal governments, organizations, and members of the public to provide comments on the Draft EIS. The public comment period started with the publication in the Federal Register by the Environmental Protection Agency of the “Notice of Availability” of the Draft EIS on August 22, 2003, and will continue until October 14, 2003. Written and oral comments will be given equal weight, and DOE will consider all comments received or postmarked by that date in preparing the Final EIS. Comments received or postmarked after that date will be considered to the extent practicable.

Dates for the public hearings are:

1. September 25, 2003, 3 p.m. to 5 p.m., Green Valley, Arizona

2. September 25, 2003, 7 p.m. to 9 p.m., Green Valley, Arizona

3. September 26, 2003, 1 p.m. to 3 p.m., Nogales, Arizona

4. September 26, 2003, 5 p.m. to 7 p.m., Nogales, Arizona

Requests to speak at a specific public hearing should be received by Dr. Jerry Pell as indicated in the ADDRESSES section below on or before September 15, 2003. Requests to speak may also be made at the time of registration for the hearing(s). However, persons who have submitted advance requests to speak will be given priority if time should be limited during the meeting.

ADDRESSES: Requests to speak at the public hearings should be addressed to: Dr. Jerry Pell, Office of Fossil Energy (FE-27), U.S. Department of Energy, Washington DC 20585, or transmitted by phone: 202-586-3362, facsimile: 202-318-7761, or electronic mail at Jerry.Pell@hq.doe.gov. Please be aware that anthrax screening delays conventional mail delivery to DOE.

The locations of the public hearings are:

1. Both hearings on September 25, 2003, will be held at the Santa Rita Springs Facility, Green Valley Recreation Department, 921 W. Via Rio Fuerte, Green Valley, Arizona 85614-5711.

2. Both hearings on September 26, 2003, will be held in the County Board Hearing Room, Santa Cruz County Office Building, 2150 N. Congress Drive, Nogales, Arizona 85621.

Copies of the Draft EIS are available as (a) the Summary in paper format, accompanied by a CD-ROM that includes the entire Draft EIS, (b) the entire Draft EIS in paper format, accompanied by the CD-ROM, or (c) the CD-ROM only; requests for any of these should be addressed to Dr. Pell at any of the addresses above. Additionally, the Draft EIS is available on the Internet at http://www.ttclients.com/tep.

Written comments on the Draft EIS may be addressed to Dr. Jerry Pell as indicated in the ADDRESSES section of this notice or submitted on the project Web site at http://www.ttclients.com/tep.

FOR FURTHER INFORMATION CONTACT: For information on the proposed project or to receive a copy of the Draft EIS, contact Dr. Pell as indicated in the ADDRESSES section of this notice.

For general information on the DOE NEPA process, contact: Carol M. Borgstrom, Director, Office of NEPA Policy and Compliance (EH-42), U.S. Department of Energy, 1000 Independence Avenue, SW., Washington, DC 20585, Phone: 202-586-4600 or leave a message at 800-472-2756; Facsimile: 202-586-7031.

SUPPLEMENTARY INFORMATION:

Background

Executive Order (E.O.) 10485, as amended by E.O. 12038, requires that a Presidential permit be issued by DOE before electric transmission facilities may be constructed, maintained, operated, or connected at the U.S. international border. The E.O. provides that a Presidential permit may be issued after a finding that the proposed project is consistent with the public interest. In determining consistency with the public interest, DOE considers the impacts of the project on the reliability of the U.S. electric power system and on the environment. The regulations implementing the E.O. have been codified at 10 CFR 205.320-205.329. Issuance of the permit indicates that there is no Federal objection to the project, but does not mandate that the project be completed.

On August 17, 2000, TEP, a regulated public utility, filed an application for a Presidential permit with the Office of Fossil Energy of DOE and, on May 18, 2001, supplemented its application with its March 1, 2001 application to the Arizona Corporation Commission (ACC) for a Certificate of Environmental Compatibility. TEP proposes to construct two 345,000-volt (345-kV) transmission circuits on a single set of support structures across the U.S. international border in the vicinity of Nogales, Arizona. Both circuits would originate at TEP's existing South Substation located approximately 15 miles south of Tucson in the vicinity of Sahuarita, Arizona, and 1.4 miles east of Interstate Highway 19 (I-19), south of Pima Mine Road, in Pima County, Arizona. Near the U.S. international border, the proposed transmission lines would interconnect with the Citizens Communications system at the proposed Gateway Substation that would be constructed just west of Nogales, Arizona. South of the border, TEP would extend the line approximately 60 miles to the Santa Ana Substation, located in the City of Santa Ana, Sonora, Mexico, and owned by the Comisión Federal de Electricidad (CFE), the national electric utility of Mexico.

On July 10, 2001, DOE published in the Federal Register (66 FR 35950) a Notice of Intent (NOI) to prepare an EIS for the proposed project. The NOI informed the public of the proposed scope of the EIS, solicited public participation in the scoping process, and announced public scoping meetings that were held on July 30, 2001, in Sahuarita, Arizona, and on July 31, 2001, in Rio Rico, Arizona. The public scoping period initially closed on August 9, 2001, but then was extended to August 31, 2001 (Federal Register Notice of July 27, 2001, 66 FR 39154). Comments received during the public scoping process were used in preparing the Draft EIS.

Action Alternatives Considered

The action alternatives developed for the proposed project focus on alternative routes to interconnect TEP's South Substation with the proposed Gateway Substation. TEP's evaluation of interconnection schemes, scoping comments, and discussions with DOE resulted in three potentially viable alternative corridors for transmission interconnection in southern Arizona: the Western Corridor (the applicant's Preferred Alternative), the Central Corridor, and the Crossover Corridor. The Crossover Corridor was included for analysis in this Draft EIS based on public and tribal input received during the public scoping period and tribal consultations. Another alternative, the Eastern Corridor, was originally proposed by TEP but was eliminated from analysis as a reasonable alternative in this Draft EIS at TEP's request for reasons of reliability, constructability, existing encroachment into the right-of-way, and visual impacts.

NEPA requires the identification of the agency's preferred alternative or alternatives in a Draft EIS if one or more exists or, if one does not yet exist at the draft stage, in the Final EIS, 40 CFR part 1502.14(e). DOE reported in the NOI (see above) that TEP's Preferred Alternative is the Western Corridor. In light of TEP's preference and the ACC's decision to site TEP's proposed line only along the Western Corridor, DOE has designated the Western Corridor as DOE's preferred alternative at this time. DOE welcomes comments on this designation. The cooperating agencies have not designated their respective preferred alternatives at this time but will do so after their review of environmental information is completed. Identification of a preferred alternative in the Draft EIS does not preclude selection of a different or modified preferred alternative in the Final EIS. The final selection of preferred alternatives will be based on a balanced evaluation of the environmental consequences, public comment, and consideration of national policies.

No Action Alternative

The Council on Environmental Quality's (CEQ) regulations require that an agency “include the alternative of no action” as one of the alternatives it considers, 40 CFR 1502.14(d). For DOE and the cooperating agencies, “no action” means any one of the Federal agencies declining to grant approval for their area of jurisdiction. Each agency will make its own decision independently, so that it is possible that one or more agencies could grant permission for the proposal while another could deny permission.

The Draft EIS analyzes the potential environmental effects, or impacts, of TEP constructing and operating the proposed project in one of the three alternative transmission corridors, and also analyzes the No Action Alternative. CEQ's regulations require that an EIS contain a description of the environmental effects (both positive and negative) of the proposed alternatives. The regulations also distinguish between direct and indirect effects (40 CFR 1508.8). Direct effects are caused by an action and occur at the same time and place as the action. Indirect effects are reasonably foreseeable effects caused by the action that occur later in time or farther in distance. Both direct and indirect effects are addressed in the Draft EIS. CEQ's regulations also require that an EIS contain a description of the cumulative impacts of the proposed alternatives (40 CFR 1508.7). CEQ's regulations define cumulative impacts as those that result from the incremental impact of an action when added to other past, present, and reasonably foreseeable future actions, regardless of what agency or person undertakes such other actions. Cumulative impacts are addressed in the Draft EIS.

The Draft EIS presents information on the potential environmental effects of both the proposed transmission line construction and subsequent operation on land use and recreation, visual resources, biological resources, cultural resources, socioeconomics, geology and soils, water resources, air quality, noise, human health and environment, infrastructure, transportation, and minority and low income populations. The Draft EIS also includes a Floodplains and Wetlands Assessment, in accordance with E.O. 11988, Floodplain Management, and E.O. 11990, Protection of Wetlands.

Coronado National Forest Plan Amendment

The Coronado National Forest, U.S. Forest Service, has identified the need for amendments to its Land and Resource Management Plan (Forest Plan) in order to implement any of the action alternatives identified in the Draft EIS. The amendments needed are for segments of all (three) action alternative corridor locations and for visual resources. The public comment period for the amendments will coincide with DOE's comment period. Comments on Forest Plan amendments should be sent to Mr. John M. McGee, Forest Supervisor, U.S. Forest Service, 300 West Congress, Tucson, Arizona 85701. Any inquiries regarding the Forest Plan or the amendments should be directed to the U.S. Forest Service.

Availability of the Draft EIS

DOE has distributed copies of the Draft EIS to appropriate Members of Congress, state and local government officials in Arizona, American Indian tribal governments, and other Federal agencies, groups, and interested parties. Copies of the document may be obtained by contacting DOE as provided in the section of this notice entitled ADDRESSES. Copies of the Draft EIS and supporting documents are also available for inspection at the locations identified below:

1. U.S. Department of Energy, Freedom of Information Reading Room, Room 1E-190, Forrestal Building, 1000 Independence Avenue, SW, Washington, DC 20585.

2. Coronado National Forest, Federal Building, 300 West Congress Street, 5th Floor, Room 5H, Tucson, AZ 85701 (phone 520-670-4527).

3. Nogales Ranger District, 303 Old Tucson Road, Nogales, AZ 85621 (phone 520-281-2296).

4. Rio Rico Public Library, 1060 Yavapai Drive, Rio Rico, AZ 85648 (phone 520-281-8067).

5. Tubac Community Library, 50 Bridge Road, Tubac, AZ 85646 (phone 520-398-9814).

6. Conrad Joyner-Green Valley Branch Library, 601 North La Cañada Drive, Green Valley, AZ 85614 (phone 520-625-8660).

7. Nogales-Santa Cruz County Public Library, 518 North Grand Ave., Nogales, AZ 85621 (phone 520-287-3343).

Comments on the Draft EIS may be submitted to Dr. Jerry Pell (see ADDRESSES, above) or provided at the public hearings (see DATES, above). After the public comment period ends on October 14, 2003, DOE will consider all comments received, revise the Draft EIS as appropriate, and issue a Final EIS. DOE will consider the Final EIS, along with other information, such as electric reliability and national policy factors, in deciding whether or not to issue a Presidential permit.

Issued in Washington, DC, this 20th day of August 2003.
Anthony J. Como,
Deputy Director, Electric Power Regulation, Office of Coal and Power Import/Export, Office of Coal and Power Systems, Office of Fossil Energy.

[FR Doc. 03-21885 Filed 8-26-03; 8:45 am]

BILLING CODE 6450-01-P